DEPARTMENT OF HOMELAND SECURITY

Federal Emergency Management Agency

[Docket ID FEMA-2019-0002; Internal Agency Docket No. FEMA-B-1906]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 28, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1906, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Floyd County, Iowa and Incorporated Areas
Project: 16-07-2267S Preliminary Date: June 15, 2018
City of Charles City | City Hall, 105 Milwaukee Mall, Charles City, IA 50616.
City of Floyd | City Hall, 617 Monroe Street, Floyd, IA 50435.
City of Marble Rock | City Hall, 105 Main Street South, Marble Rock, IA 50653.
City of Nora Springs | City Hall, 45 North Hawkeye Avenue, Nora Springs, IA 50458.
City of Rockford | City Hall, 206 West Main Avenue, Rockford, IA 50468.
City of Rudd | City Hall, 402 Chickasaw Street, Rudd, IA 50471.
Unincorporated Areas of Floyd County | Floyd County Courthouse, 101 South Main Street, Suite 206, Charles City, IA 50616.
Winnebago County, Iowa and Incorporated Areas
Project: 16-07-2071S Preliminary Date: June 15, 2018
City of Buffalo Center | City Hall, 201 2nd Avenue Southwest, Buffalo Center, IA 50424.
City of Lake Mills | City Hall, 105 West Main Street, Lake Mills, IA 50450.
City of Leland | City Hall, 316 Walnut Street, Leland, IA 50453.
City of Rake | Town Hall, 101 East Grace Street, Rake, IA 50465.
City of Scarville | City Hall, 121 Main Street, Scarville, IA 50473.
City of Thompson | City Hall, 167 2nd Avenue West, Thompson, IA 50478.
Unincorporated Areas of Winnebago County | Winnebago County Courthouse, 126 South Clark Street, Forest City, IA 50436.
Randolph County, Missouri and Incorporated Areas
Project: 17-07-0185S Preliminary Date: July 13, 2018
City of Clark | City Hall, 401 Main Street, Clark, MO 65243.
City of Huntsville | City Hall, 205 South Main Street, Huntsville, MO 65259.
City of Moberly | City Hall, 101 West Reed Street, Moberly, MO 65270.
Unincorporated Areas of Randolph County | Randolph County Courthouse, 372 Highway JJ, Suite A, Huntsville, MO 65259.
Village of Cairo | Village Hall, 202 West Martin Street, Cairo, MO 65239.
Village of Renick | Randolph County Courthouse, 372 Highway JJ, Suite A, Huntsville, MO 65259.

[FR Doc. 2019-03376 Filed 2-26-19; 8:45 am]

BILLING CODE 9110-12-P